DEPARTMENT OF TRANSPORTATION

Federal Motor Carrier Safety Administration

Office of Analysis, Research and Technology Forum

AGENCY: Federal Motor Carrier Safety Administration (FMCSA), DOT.

ACTION: Notice of Meeting/Forum.

SUMMARY: This notice invites interested persons to participate in a forum titled, “Federal Motor Carrier Safety Administration's Analysis, Research and Technology Programs”, sponsored by the FMCSA Office of Analysis, Research and Technology (ART) in conjunction with the 87th Annual Meeting of the Transportation Research Board (TRB). The purpose of the 2008 ART Forum is to provide information on various initiatives from FMCSA's analysis, research, and technology programs. Speaker topics will include the results of the On-Board Monitoring Safety Study; an overview of the On-Board Safety Technologies FMCSA has tested and evaluated; the results of the Violations Severity Assessment Study; a presentation titled, “When Cars Collide with Trucks and Buses”, an update on the Employer Notification Service Pilot Project; and, a review of FMCSA's Wireless Roadside Inspection and Smart Roadside Activities. Attendees will have the opportunity to dialogue with FMCSA subject-matter experts through an open question and answer session.

Where and When: Marriott Wardman Park Hotel, Virginia B & C, 2660 Woodley Road, NW., Washington, DC 20008, on Tuesday, January 15, 2008. Sign-In begins at 7:30 a.m. and the forum starts at 8 a.m. and ends at 12 p.m.

Registration: This forum is listed as a session in the TRB Annual Meeting Program and all registrants are welcome to attend. TRB registration is not required to attend the forum and it is open to the public at no cost. To register for the TRB Annual Meeting, visit http://www.trb.org. To attend the forum only, send an e-mail to: TRB2008@dot.gov.

FOR FURTHER INFORMATION CONTACT: Mr. Albert Alvarez, Office of Analysis, Research and Technology (MC-RR), Federal Motor Carrier Safety Administration, 1200 New Jersey Avenue, NE., Washington, DC 20590; telephone (202) 385-2387 or e-mail albert.alvarez@dot.gov. Office hours are from 8 a.m. to 4:30 p.m., E.S.T., Monday through Friday, except Federal holidays.

SUPPLEMENTARY INFORMATION: Forum attendees will receive an information packet on the Office of Analysis, Research and Technology's current programs. While the forum will be open to the public, space will be limited. Individuals requiring special needs/accommodations (sign, reader, etc.), please call Erica Swartz, 202-334-1232, or e-mail TRBMeetings@NAS.edu.

Issued on: November 6, 2007.
Terry Shelton,
Associate Administrator for Research and Information Technology.

[FR Doc. E7-22883 Filed 11-21-07; 8:45 am]

BILLING CODE 4910-EX-P